DEPARTMENT OF HOMELAND SECURITY

Coast Guard

[Docket Number USCG-2017-1004]

Lower Mississippi River Waterway Safety Advisory Committee

AGENCY: U.S. Coast Guard, Department of Homeland Security.

ACTION: Notice of Federal Advisory Committee meeting.

SUMMARY: The Lower Mississippi River Waterway Safety Advisory Committee will meet in New Orleans, Louisiana to discuss Committee matters relating to the safe transit of vessels and cargoes to and from the ports of the Lower Mississippi River. The meeting will be open to the public.

DATES:

Meeting. The Lower Mississippi River Waterway Safety Advisory Committee will meet on Tuesday, January 9, 2018, from 9:30 a.m. to 1:00 p.m. CST. The meeting may close early if the Committee has completed its business, or the meeting may be extended based on the number of public comments.

Comments and supporting documents. Submit your comments no later than December 31, 2017.

ADDRESSES: The meeting will be held at the U.S. Army Corps of Engineers New Orleans District office, 7400 Leake Avenue, New Orleans, Louisiana 70118. For driving directions: http://www.mvn.usace.army.mil/Portals/56/docs/PAO/usace_stripmap.pdf. All visitors to U.S. Army Corps of Engineers New Orleans District Office will have to pre-register to be admitted to the building. Please provide your name, telephone number, and citizenship status by close of business on December 31, 2017, to the individual listed in the FOR FURTHER INFORMATION CONTACT section of this notice.

For information on facilities or services for individuals with disabilities, or to request special assistance at the meeting, contact the individual listed in the FOR FURTHER INFORMATION CONTACT section as soon as possible.

Written comments must be submitted using the Federal eRulemaking Portal at http://www.regulations.gov. If you encounter technical difficulties with comment submission, contact the individual listed in the FOR FURTHER INFORMATION CONTACT section below.

Instructions: You are free to submit comments at any time, including orally at the meeting, but if you want Committee members to review your comment before the meeting, please submit your comment no later than December 31, 2017. We are particularly interested in comments on the issues in the “Agenda” section below. You must include “Department of Homeland Security” and the docket number USCG-2017-1004 in your comment. Comments received will be posted without alteration at http://www.regulations.gov, including any personal information provided. You may review the Privacy Act and Security Notice for the Federal Docket Management System at https://www.regulations.gov/privacyNotice.

Docket Search: For access to the docket or to read documents or comments related to this notice, go to http://www.regulations.gov, insert USCG-2017-1004 in the Search box, press Enter, and then click the item you wish to view.

FOR FURTHER INFORMATION CONTACT: Lieutenant Brian Porter, Alternate Designated Federal Officer of the Lower Mississippi River Waterway Safety Advisory Committee, U.S. Coast Guard Sector New Orleans, 200 Hendee Street, New Orleans, LA 70114; telephone (504) 365-2375, email Brian.J.Porter@uscg.mil.

SUPPLEMENTARY INFORMATION: Notice of this meeting is in compliance with the Federal Advisory Committee Act, Title 5 United States Code Appendix. The Lower Mississippi River Waterway Safety Advisory Committee provides advice and recommendations to the Department of Homeland Security on matters relating to communications, surveillance, traffic management, anchorages, development and operation of the New Orleans Vessel Traffic Service, and other related topics dealing with navigation safety on the Lower Mississippi River as required by the U.S. Coast Guard.

Agenda of Meeting

On January 9, 2018, from 9:30 a.m. to 1:00 p.m. CST, the Lower Mississippi River Waterway Safety Advisory Committee will meet to review, discuss, deliberate, and formulate recommendations, as appropriate, on the following:

(1) Status of Systematic Port Planning Action Item.

(2) U.S. Coast Guard Regulatory Reform Regulations.

A copy of all meeting documentation will be available at https://homeport.uscg.mil/missions/ports-and-waterways/safety-advisory-committees/lmrwsac/general-information no later than December 31, 2017. Alternatively, you may contact Lieutenant Brian Porter as noted in the FOR FURTHER INFORMATION CONTACT section above.

Public comments or questions will be taken throughout the meeting as the Committee discusses the issues and prior to deliberations and voting. There will also be a public comment period at the end of the meeting. Speakers are requested to limit their comments to 3 minutes. Please note that the public comment period may end before the period allotted, following the last call for comments. Contact the individual listed in the FOR FURTHER INFORMATION CONTACT section to register as a speaker.

Dated: December 15, 2017.
Paul F. Thomas,
Rear Admiral, U.S. Coast Guard, Commander, Eighth Coast Guard District.

[FR Doc. 2017-27603 Filed 12-21-17; 8:45 am]

BILLING CODE 9110-04-P